DEPARTMENT OF AGRICULTURE

Commodity Credit Corporation

Request for Reinstatement and Revision of a Previously Approved Information Collection

AGENCY: Commodity Credit Corporation, USDA.

ACTION: Notice and request for comments.

SUMMARY: In accordance with the Paperwork Reduction Act of 1995, this notice announces the intention of the Commodity Credit Corporation (CCC) to request a Reinstatement and Revision of a Previously Approved Information Collection. These collection reinstatements are necessary to support the procurement of agricultural commodities for CCC's domestic and export food donation programs. CCC issues invitations to purchase or process commodities for food donation programs on a monthly, multi-month, quarterly, and yearly basis. Special invitations, however, are issued throughout the month.

DATES: Comments on this notice must be received on or before August 7, 2001, to be assured consideration.

ADDITIONAL INFORMATION OR COMMENTS: Comments regarding this information collection requirement may be directed to Gregory Borchert, Chief, Planning and Analysis Division, Kansas City Commodity Office (KCCO), 6501 Beacon Drive, Kansas City, Missouri 64133-4676, telephone (816) 926-6509 or fax (816) 926-1648; e-mail gmborchert@kcc.fsa.usda.gov.

SUPPLEMENTARY INFORMATION: Title: CCC Commodity Offer Forms.

OMB Control Number: 0560-0177.

Expiration Date: January 31, 2001.

Type of Request: Reinstatement and revision of a previously approved information collection.

Abstract: The United States donates agricultural commodities domestically and overseas to meet famine or other relief requirements, to combat malnutrition, and sells or donates commodities to promote economic development.

CCC issues invitations to purchase or sell agricultural commodities and services for use in domestic and export programs. Vendors respond by making offers using various CCC commodity offer forms. The Export Offer forms and the KC-333 are now prepared and received electronically through the Electronic Bid Entry System (EBES). Most of the Domestic Offer forms (KC-327) are now prepared and received electronically through the Domestic Bid Entry System (DEBES) via the Internet. Vendors can access EBES or DEBES on-line to see the date/time the system shows for receipt of bid, bid modification, or bid cancellation. At bid opening date/time, the bids are system evaluated. Acceptance wires are sent to the successful offerors. Awarded contracts are posted on our website. The prior bid system required hard-copy bids and manual entry into our computer system. We are seeking approval for the following forms: KC-156, Export Certification For Export Title II Commodities; KC-269/KC-269-A (Reverse), Notice to Deliver; KC-324, Steamship Line Service Offer Form; KC-327, Domestic Offer Form; KC-331, Bulk Grain Procurement Offer Form; KC-332, Bulk Grain Sales Offer Form; KC-333 and Export Offer forms; KC-334, Discharge/Delivery Survey Summary; KC-337, Rate Schedule; and KC-366, Shipment Information Log.

Regulations governing paperwork burdens on the public require that before an agency collects information from the public, the agency must receive approval from OMB. In accordance with those regulations, CCC is seeking approval for these forms to provide for the submission of offers.

Estimate of Burden: Public reporting burden for collection information under this notice is estimated to average 15-30 minutes per response, including the time for reviewing instructions, searching existing data sources, gathering and maintaining the data needed, and completing and reviewing the collection of information.

Respondents: Business and other for profit organizations.

Estimated Number of Respondents: 1,288.

Estimated Number of Responses per Respondent: 405.

Estimated Total Annual Burden on Respondents: 5,890.

Proposed topics for comment include: (a) Whether the continued collection of information is necessary for the proper performance of the functions of the agency, including whether the information will have practical utility; (b) the accuracy of CCC's estimate of burden including the validity of the methodology and assumptions used; (c) enhancing the quality, utility, and clarity of the information collected; or (d) minimizing the burden of the collection of the information on those who are to respond, including through the use of appropriate automated, electronic, mechanical, or other technological collection techniques or other forms of information technology. Comments should be directed to the Office of Information and Regulatory Affairs of OMB, Attention: Desk Officer for USDA, Washington, DC 20503, and to Gregory Borchert, Chief, Planning and Analysis Division, Kansas City Commodity Office, 6501 Beacon Drive, Kansas City, Missouri 64133-4676. All comments will become a matter of public record.

A comment to OMB is best assured of having its full effect if OMB receives it within 30 days of publication.

Signed at Washington, D.C., on June 1, 2001.
James R. Little,
Executive Vice President, Commodity Credit Corporation.

[FR Doc. 01-14494 Filed 6-7-01; 8:45 am]

BILLING CODE 3410-05-P